DEPARTMENT OF ENERGY

Federal Energy Regulatory Commission

Notice of Commission Staff Attendance

The Federal Energy Regulatory Commission (Commission) hereby gives notice that members of the Commission's staff may attend the following meeting related to the transmission planning activities of the Southern Company Services, Inc.

Southeastern Regional Transmission Planning Process (SERTP) Interim Stakeholders' Meeting on Order No. 1000

October 17, 2012, 9:00 a.m.-3:00 p.m., Local Time.

The above-referenced meeting will be held at: Atlanta Airport Marriott, Atlanta Georgia.

The above-referenced meeting is open to stakeholders.

Further information may be found at: www.southeasternrtp.com.

The discussions at the meeting described above may address matters at issue in the following proceedings:

Docket No. ER12-337, Mississippi Power Company.

Docket No. ER12-2521, Louisville Gas and Electric Company and Kentucky Utilities Company.

For more information, contact Valerie Martin, Office of Energy Market Regulation, Federal Energy Regulatory Commission at (202) 502-6139 or Valerie.Martin@ferc.gov.

Dated: October 10, 2012.
Kimberly D. Bose,
Secretary.

[FR Doc. 2012-25397 Filed 10-15-12; 8:45 am]

BILLING CODE 6717-01-P